OFFICE OF THE UNITED STATES TRADE REPRESENTATIVE

Notice of Meeting of the Industry Trade Advisory Committee on Small and Minority Business (ITAC-11)

AGENCY: Office of the United States Trade Representative.

ACTION: Notice of a partially opened meeting.

SUMMARY: The Industry Trade Advisory Committee on Small and Minority Business (ITAC-11) will hold a meeting on Sunday, June 10, 2007, from 1 p.m. to 4:30 p.m. The meeting will be closed to the public from 1 p.m. to 3 p.m. and opened to the public from 3 p.m. to 4:30 p.m.

DATES: The meeting is scheduled for June 10, 2007, unless otherwise notified.

ADDRESSES: The meeting will be held at the Marriott Marquis Hotel, Atlanta, Georgia.

FOR FURTHER INFORMATION CONTACT: Laura Hellstern, DFO for ITAC-11 at (202)482-3222, Department of Commerce, 14th Street and Constitution Avenue, NW., Washington, DC 20230.

SUPPLEMENTARY INFORMATION: During the opened portion of the meeting the following agenda items will be considered.

• Overview of the structure/existence of trade advisory organizations, programs, and systems within Latin American governments, that assist and/or give voice to the needs of small and medium sized businesses in Latin America. Overview will be provided by Department of Commerce Commercial Officers and Trade Ministers from Latin American Countries.

Tiffany M. Moore,
Assistant U.S. Trade Representative for Intergovernmental Affairs and Public Liaison.

[FR Doc. E7-10245 Filed 5-25-07; 8:45 am]

BILLING CODE 3190-W7-P